DEPARTMENT OF LABOR

Employment and Training Administration

Native American Employment and Training Council

AGENCY: Employment and Training Administration, Department of Labor.

ACTION: Notice of meeting.

Authority: Pursuant to the Workforce Innovation and Opportunity Act, 29 U.S.C. 3221(i)(4); Federal Advisory Committee Act, as amended, 5 U.S.C. app. 2.

SUMMARY: Pursuant to the Federal Advisory Committee Act (FACA) and the Workforce Innovation and Opportunity Act (WIOA), notice is hereby given of the next meeting of the Native American Employment and Training Council (Council), as constituted under WIOA.

DATES: The meeting will begin at 1:30 p.m., (Eastern Daylight Time) on Wednesday, September 22, 2021, and continue until 5:00 p.m. The meeting will reconvene at 1:00 p.m., on Thursday, September 23, 2021 and adjourn at 4:30 p.m. The period from 3:00 p.m., to 4:00 p.m., on September 22, 2021 is reserved for participation and comment by members of the public.

ADDRESSES: The meeting will be held in person at the Crowne Plaza Hotel, Providence-Warwick, 801 Greenwich Ave., Warwick, RI 02886 and virtually on the Zoom.gov platform.

To join the meeting use the following:

https://www.zoomgov.com/j/1604661257?pwd=Znltb3ZNVUtFT1A3RjV2N0JYUE1JUT09 Meeting ID: 160 466 1257 Passcode: 485516 Dial in number: +164-682-8766

SUPPLEMENTARY INFORMATION: Council members and members of the public are encouraged to logon to Zoom.gov early to allow for connection issues and troubleshooting.

Security Instructions: Meeting participants should use the link and dial in instructions or ask at registration for the room name if attending in person.

The meeting will be open to the public.

Members of the public not present may submit a written statement by Friday, September 17, 2021, to be included in the record of the meeting. Statements are to be submitted to Athena R. Brown, Designated Federal Officer (DFO), and U.S. Department of Labor at brown.athena@dol.gov. Persons who need special accommodations should contact Suzie Casal at (703) 967-1829 or casal.suzie@dol.gov, at least two business days before the meeting. The formal agenda will focus on the following topics: (1) Training and technical assistance priorities, (2) NAETC Two-Year Strategic Plan update; (3) Update from 477-program Federal Partners Meeting; (4) Census Update and Tabulations; (5) Upcoming Regional/National TAT conferences; (7) Employment and Training Administration updates; and (8) public comment.

FOR FURTHER INFORMATION CONTACT: Athena R. Brown, DFO, Division of Indian and Native American Programs, Employment and Training Administration, U.S. Department of Labor, Room C-4311, 200 Constitution Avenue NW, Washington, DC 20210. Telephone number (202) 693-3737 (VOICE) (this is not a toll-free number).

Suzan G. LeVine,
Acting Assistant Secretary for Employment and Training, Labor.

[FR Doc. 2021-18146 Filed 8-23-21; 8:45 am]

BILLING CODE 4510-FN-P